DEPARTMENT OF AGRICULTURE

Forest Service

Gallatin County Resource Advisory Committee

AGENCY: Forest Service, USDA.

ACTION: Notice of meeting.

SUMMARY: The Gallatin County Resource Advisory Committee (RAC) will meet in Bozeman, Montana. The RAC is authorized under the Secure Rural Schools and Community Self-Determination Act (the Act) (Pub. L. 110-343) and operates in compliance with the Federal Advisory Committee Act (FACA) (5 U.S.C. App. II). Additional information concerning the RAC can be found by visiting the Act's Web site at www.fs.usda.gov/gallatin and clicking on the right-hand highlight that denotes Gallatin County RAC.

DATES: The meeting will be held Friday, February 21, 2014, at 2:00 p.m.

ADDRESSES: The meeting will be held at the Bozeman Public Library, 626 E Main Street, Bozeman, Montana in the Large Conference Room located in the foyer on the North side of the building. Written comments may be submitted as described under Supplementary Information. All comments, including names and addresses, when provided, are placed in the record and available for public inspection and copying. The public may inspect comments received at the Custer and Gallatin National Forests Supervisor's Office. Please call ahead to facilitate entry into the building.

FOR FURTHER INFORMATION CONTACT: Mariah Leuschen, Public Affairs Specialist and RAC Coordinator, by phone at 406-255-1411, or by email at mdleuschen@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. The purpose of the meeting is to provide:

(1) Review project submissions, and

(2) vote and recommend projects to Forest Supervisor.

The agenda will include time for people to make oral statements of five minutes or less. Individuals wishing to make an oral statement should submit a request in writing by February 10, 2014 to be scheduled on the agenda. Anyone who would like to bring related matters to the attention of the committee may file written statements with the committee staff before or after the meeting. Written comments and time requests for oral comments must be sent to Mariah Leuschen, Custer and Gallatin National Forests Supervisor's Office, 1310 Main Street, Billings, Montana 59105; by email to mdleuschen@fs.fed.us, or via fascimile to 406-255-1499. A summary of the meeting will be posted on the Web site listed above within 21 days after the meeting.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: December 19, 2013.
Mary C Erickson,
Forest Supervisor.

[FR Doc. 2013-31295 Filed 12-30-13; 8:45 am]

BILLING CODE 3410-11-P